DEPARTMENT OF COMMERCE

Economic Development Administration

[Docket No. 991215339-9339-01]

RIN 0610-ZA14

Economic Development Assistance Programs—Availability of Funds Under the Public Works and Economic Development Act of 1965, as Amended, and Trade Act of 1974, as Amended

AGENCY: Economic Development Administration (EDA), Department of Commerce (DoC).

ACTION: Notice.

SUMMARY: The Economic Development Administration (EDA) announces its policies and application procedures under the Public Works and Economic Development Act of 1965, as amended (PWEDA) for fiscal year 2000 to support projects designed to alleviate conditions of substantial and persistent unemployment and underemployment in economically-distressed areas and regions of the Nation, and to address economic dislocations resulting from sudden and severe job losses.

DATES: Unless otherwise noted below, applications are accepted on a continuous basis and will be processed as funds are available. Normally, two months are required for a final decision after the receipt of a completed application that meets all EDA requirements.

ADDRESSES: Addresses for EDA's six regional offices and Washington office are provided in Section XIII. Addresses for Economic Development Representatives (EDRs) are listed under each regional office.

FOR FURTHER INFORMATION CONTACT: Interested parties should contact the appropriate regional office or EDR as shown in Section XIII for community and regional economic development projects. For national technical assistance, research, and trade adjustment assistance projects, contact the headquarters program office as shown in Sections XI and XII, respectively.

SUPPLEMENTARY INFORMATION:

I. General Policies under PWEDA

In light of its limited resources and the demonstrated widespread need for economic development, EDA encourages only project proposals that will significantly benefit areas experiencing or threatened with substantial economic distress. EDA will focus its scarce financial resources on communities with the highest economic distress. Distress may exist in a variety of forms, including, but not limited to, high levels of unemployment, low income levels, large concentrations of low-income families, significant decline in per capita income, substantial loss of population because of the lack of employment opportunities, large numbers (or high rates) of business failures, sudden major layoffs or plant closures, military base closures, natural or other major disasters, depletion of natural resources, and/or reduced tax bases.

Potential applicants are responsible for demonstrating to EDA, by providing statistics and other appropriate information, the nature and level of the distress their project efforts are intended to alleviate. In the absence of evidence of high levels of distress, EDA funding is unlikely.

EDA's strategic funding priorities are intended to implement PWEDA and to continue the general goals in place over the past six fiscal years, which have been refined to reflect the priorities of the U.S. Department of Commerce. Unless otherwise noted below, the funding priorities listed will be considered by the Selecting Official (depending upon the program, either the Regional Director or Assistant Secretary) after the project proposal has been evaluated based upon evaluation criteria described in EDA's regulations at 13 CFR Chapter III (64 FR 5347, February 3, 1999 and 64 FR 69867, December 14, 1999).

During FY 2000, EDA will give priority consideration to projects that help communities achieve and sustain economic growth, including those that support the Administration's “New Markets” and “Liveable Communities” initiatives and the priorities of the Department of Commerce, including, among other things, the following:

• Construction and rehabilitation of essential public works infrastructure and economic development facilities that are necessary to achieve long-term growth and provide stable and diversified local economies in the Nation's distressed communities;

• Assistance to communities suffering job losses and/or plant closings resulting from changing trade patterns. This may include, but is not limited to, projects for export promotion, identification of new markets and products, increased productivity, and diversification of the local economic base;

• Commercialization and deployment of technology, particularly information technology and telecommunications, and efforts that support technology transfer, application, and deployment for regional economic development. Also included under this category would be projects that support the development of new environmental technologies and techniques (e.g., innovative material recycling or reuse within the context of eco-industrial development, pollution control or treatment processes, and flood mitigation) that significantly enhance an area's economic development potential; Sustainable development programs that will provide long-term economic development benefits while promoting eco-efficiency. Included are diversification of natural resource dependent economies, eco-industrial parks, aquaculture facilities, brownfields' redevelopment, and other projects that increase efficient use of resources without compromising the environment for future generations;

• Projects from Minority Serving Institutions to plan and implement activities that will create opportunities for minority enterprise and technology-based employment in distressed areas;

• Entrepreneurial development, especially programs that build local capacity such as small business incubators and community financial intermediaries, and projects benefitting minorities, businesses owned by women, and people with disabilities (e.g., revolving loan funds);

• Economic adjustment, especially in response to military base and Department of Energy facility closures and downsizing, defense industry downsizing, and post-disaster, long-term economic recovery;

• Projects that fall under the New Markets Initiative—those that attract private investment in economically distressed inner city areas, small and medium-sized towns, rural areas, and Native American communities.

• Projects located in federally designated rural and urban Enterprise Communities and Empowerment Zones and state enterprise zones;

• Projects that demonstrate innovative approaches to economic development;

• Projects that support the economic development of Native American communities including Alaska Native Villages;

• Projects that support locally created partnerships that focus on regional solutions for economic development. Such projects will be given priority over proposals that are more limited in scope. For example, projects that evidence collaboration in fostering an increase in regional (multicounty and/or multistate) productivity and growth will be considered to the extent that such projects demonstrate a substantial benefit to economically distressed areas of the region;

• Projects that support the Environmental Protection Agency's (EPA) designated brownfield pilots and Brownfield Showcase Communities that are eligible for EDA funding; and/or

• Projects that support the Council on Environmental Quality's American Heritage Rivers Initiative. EDA will to the extent practicable, given its limited resources, work with EDA eligible river communities on each of the 14 Presidentially designated rivers in achieving their economic development goals and objectives.

To the degree that one or more funding priorities are included (or packaged together) in the proposal, the ability to obtain EDA assistance may be enhanced.

II. Other Information and Requirements

EDA regulations at 13 CFR Chapter III published in the Federal Register (64 FR 5347, February 3, 1999, and 64 FR 32973, June 18, 1999 and 64 FR 69867, December 14, 1999), are available from EDA offices listed in Section XIII and from the EDA web site at www.doc.gov/eda.

Certain Departmental and other requirements are noted below. Additional information is available through links to EDA's web site at www.doc.gov/eda or from the appropriate EDA office listed in Section XIII.

A. Notwithstanding any other provision of law, no person is required to respond to, nor shall a person be subject to a penalty for failure to comply with a collection of information subject to the requirements of the Paperwork Reduction Act (PRA) unless that collection of information displays a currently valid Office of Management and Budget (OMB) control number. This notice involves a collection of information requirement subject to the provisions of the PRA and has been approved by OMB under Control Number 0610-0094.

B. All primary applicants must submit a completed Form CD-511, “Certifications Regarding Debarment, Suspension and Other Responsibility Matters; Drug-Free Workplace Requirements and Lobbying,” and the following explanations are hereby provided: Prospective participants (as defined at 15 CFR Part 26, Section 105) are subject to “Nonprocurement Debarment and Suspension” and the related section of the certification form prescribed above applies;

Grantees (as defined at 15 CFR Part 26, Section 605) are subject to 15 CFR Part 26, Subpart F, “Drug-Free Workplace Requirements (Grants)” and the related section of the certification form prescribed above applies;

Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

C. Any applicant that has paid or will pay for lobbying using any funds must submit an SF-LLL, “Disclosure of Lobbying Activities,” as required under 15 CFR part 28, Appendix B.

D. The implementing regulations of the National Environmental Policy Act (NEPA) require EDA to provide public notice of the availability of project specific environmental documents such as environmental impact statements, environmental assessments, findings of no significant impact, records of decision etc., to the affected public as specified in 40 CFR 1506.6(b).

Depending on the project location, environmental information concerning specific projects can be obtained from the Regional Environmental Officer (REO) in the appropriate EDA regional office listed in Section XIII.

E. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL “Disclosure of Lobbying Activities.” Form CD-512 is intended for the use of recipients and should not be transmitted to DoC. SF-LLL submitted by any tier recipient or subrecipient should be submitted to DoC in accordance with the instructions contained in the award document.

F. No award of Federal funds will be made to an applicant who has an outstanding delinquent Federal debt until either:

1. The delinquent account is paid in full;

2. A negotiated repayment schedule is established and at least one payment is received; or

3. Other arrangements satisfactory to DoC are made.

G. Unsatisfactory performance under prior Federal awards may result in an application not being considered for funding.

H. Applicants should be aware that a false statement on the application is grounds for denial of the application or termination of the grant award and grounds for possible punishment by a fine or imprisonment as provided in 18 U.S.C. 1001.

I. Applicants are hereby notified that any equipment or products authorized to be purchased with funding provided under this program must be American-made to the maximum extent feasible.

J. Applicants seeking an early start, i.e., to begin a project before EDA approval, must obtain a letter from EDA allowing such early start. The letter allowing the early start will be null and void if the project is not subsequently approved for funding by the grants officer. Approval of an early start does not constitute project approval. Applicants should be aware that if they incur any costs prior to an award being made they do so solely at their own risk of not being reimbursed by the Government. Notwithstanding any verbal or written assurance that may have been received, there is no obligation on the part of DoC to cover preaward costs. Additionally, EDA also requires that compliance with environmental regulations, in accordance with the National Environmental Policy Act (NEPA), be completed before construction begins.

K. If an application is selected for funding, EDA has no obligation to provide any additional future funding in connection with an award. Renewal of an award to increase funding or extend the period of performance is at the sole discretion of EDA.

L. Unless otherwise noted below, eligibility, program objectives, application procedures, selection procedures, evaluation criteria and other requirements for all programs are set forth in EDA's regulations at 13 CFR Chapter III (64 FR 5347, February 3, 1999, 64 FR 39273, June 18, 1999, and 64 FR 69867, December 14, 1999).

M. Area eligibility is determined at the time that EDA invites an application under 13 CFR 305 or 308 and is based on the most recent Federal data available for the area where the project will be located or where the substantial direct benefits will be received. If no Federal data are available to determine eligibility, an applicant must submit to EDA the most recent data available for the area through the government of the State in which the area is located, i.e., conducted by or at the direction of the State government. Project areas must be eligible on the date of submission of the application. In the case of any application received by EDA more than six months prior to the time of award, EDA will reevaluate the project to determine that the area remains eligible for EDA assistance before making the award.

EDA will reject any documentation of eligibility that it determines is inaccurate.

N. EDA is not authorized to provide any financial assistance directly to individuals for the purpose of starting a new business or expanding an existing business.

III. Special Need Criteria

An area is eligible pursuant to “Special Need” (13 CFR 301.2 (b) (3)), if the area meets one of the criteria described below:

A. Substantial out-migration or population loss. Applicants seeking eligibility under this criterion will be asked to present appropriate and compelling economic and/or demographic data to demonstrate the special need.

B. Underemployment, that is, employment of workers at less than full time or at less skilled tasks than their training or abilities permit. Applicants seeking eligibility under this criterion will be asked to present appropriate and compelling economic and/or demographic data to demonstrate the special need.

C. Military base closures or realignments, defense contractor reductions-in-force, or Department of Energy defense-related funding reductions.

1. A military base closure refers to a military base that was closed or is scheduled for closure or realignment pursuant to a Base Realignment and Closure Act (BRAC) process or other Defense Department process. The area is eligible from the date of Defense Department recommendation for closure until five years after the actual date of closing of the installation, provided that the closure recommendation is not sooner canceled.

2. A defense contractor reduction-in-force refers to a defense contractor(s) experiencing defense contract cancellations or reductions resulting from official DoD announcements and having aggregate value of at least $10 million per year. Actual dislocations must have occurred within one year of application to EDA and threatened dislocations must be anticipated to occur within two years of application to EDA. Defense contracts that expire in the normal course of business will not be considered in meeting this criterion.

3. A Department of Energy defense-related funding reduction refers to a Department of Energy facility that has experienced or will experience a reduction of employment resulting from its defense mission change. The area is eligible from the date of the Department of Energy announcement of reductions until five years after the actual date of reduced operations at the installation, provided that the reduction is not sooner canceled.

D. Natural or other major disasters or emergencies. An area that has received one of the following disaster declarations is eligible for EDA assistance for a period of 18 months after the date of declaration, unless further extended by the Assistant Secretary:

1. A Presidential Disaster Declaration authorizing FEMA Public Assistance pursuant to the Robert T. Stafford Disaster Relief and Emergency Assistance Act, as amended (Public Law 93-288), 42 U.S.C. 5121 et seq.), or

2. A Federally Declared Disaster pursuant to the Magnuson-Stevens Fishery Conservation and Management Act, (Public Law 94-265) as amended by the Sustainable Fisheries Act (Public Law 104-297), or

3. A Federal Declaration pursuant to the Consolidated Farm and Rural Development Act, as amended (Public Laws 92-419, 96-438, 97-35, 98-258, 99-198, 100-233, 100-387, and 101-624), or

4. A Federally Declared Disaster pursuant to the Small Business Act, as amended (Public Law 85-536).

E. Extraordinary depletion of natural resources. EDA presently recognizes the following conditions of extraordinary natural resource depletion:

1. Fisheries

2. Coal

3. Timber

Assistant Secretary modifications to the above listing of conditions of extraordinary natural resource depletion, as they may occur, will be announced in subsequent public notices.

F. Closure or restructuring of industrial firms, essential to area economies. An area that has experienced closure or restructuring of firms resulting in sudden job losses and meeting the following criteria:

1. For areas over 100,000 population, the actual or threatened dislocation is 500 jobs, or 1 percent of the civilian labor force (CLF), whichever is less.

2. For areas up to 100,000 population, the actual or threatened dislocation is 200 jobs, or 1 percent of the CLF, whichever is less.

Actual dislocations must have occurred within one year of application to EDA and threatened dislocations must be anticipated to occur within two years of application.

G. Local negative impacts of foreign trade. An area certified as eligible by the North American Development Bank (NADBank) Program or the Community Adjustment and Investment Program (CAIP) .

H. Other special need. The area is experiencing other special and/or extraordinary economic adjustment need as determined by the Assistant Secretary.

The applicant will be asked to present appropriate economic or demographic statistics to demonstrate a special need.

IV. Funding Availability

Under EDA's fiscal year 2000 appropriation, Pub. L. 106-113, program funds totalling $360,550,000 are available until expended. EDA has already received and begun processing requests for funding under its programs for fiscal year 2000. New requests submitted that require approval during this fiscal year will face substantial competition.

V. Authority

The authority for programs listed in Parts VI through XI is the Public Works and Economic Development Act of 1965, (Pub. L. 89-136, 42 U.S.C. 3121, et seq.), as amended, and as further amended by Pub. L. 105-393 (PWEDA). The authority for the program listed in Part XII is Title II Chapters 3 and 5 of the Trade Act of 1974, as amended, (19 U.S.C. 2341-2355; 2391) (Trade Act), as amended by Pub. L. 105-119.

VI. Program: Public Works and Economic Development Assistance

(Catalog of Federal Domestic Assistance: 11.300 Economic Development-Grants for Public Works and Infrastructure)

Funding Availability

Funds in the amount of $204,521,000 maybe appropriated for this program. The average funding level for a grant last fiscal year was $849,000.

VII. Program: Technical Assistance-Local Technical Assistance; National Technical Assistance; and University Centers

(Catalog of Federal Domestic Assistance: 11.303 Economic Development-Technical Assistance)

Funding Availability

Funds in the amount of $9,100,000 million have been appropriated for the Technical Assistance programs of which approximately $1,530,000 is available for the Local Technical Assistance program; $1,101,000 for the National Technical Assistance program; and $6,469,000 for the University Center program. The average funding level in FY 1999 for Local Technical Assistance grants was $28,000; for National Technical Assistance grants, $108,000; and for University Center grants, $98,300.

EDA expects that most University Center funds will be used for support to existing University Centers. EDA is in the process of designating the University Center program as a multi-(up to three) year program and expects at least $6,469,000 in funding to be available in each of the second and third years. Applicants under EDA's University Center Technical Assistance programs may be invited to submit applications for multi-year awards, setting out the proposed budget and project activities for each year, up to three years. If accepted, such applications will simplify the application process in subsequent year or years, although in each year approval of an award will be dependent upon continued satisfactory performance during the preceding period, the availability of program funds, and will be at EDA's sole discretion. It is EDA's intention to have the multi-year funding cycle coincide with the peer review cycle called for under Section 506 of PWEDA and 13 CFR § 318.1.

A separate FR Notice will set forth the specific funding priorities, application process, and time frames for certain National Technical Assistance projects.

VIII. Program: Planning—Planning Assistance for Economic Development Districts, Indian Tribes, States, and Other Planning Organizations

(Catalog of Federal Domestic Assistance: 11.302 Economic Development—Support for Planning Organizations; 11.305 Economic Development—State and Local Economic Development Planning)

Funding Availability

Funds in the amount of $24,000,000 have been appropriated for the Planning program. The funding levels for planning grants last year ranged from $10,000 to $200,000. EDA expects the majority of planning funds will be used for support to existing Economic Development District and Indian Tribe grantees. EDA is in the process of designating the Planning programs as multi-(up to three)year programs and expects at least $24,000,000 in funding to be available annually in the second and third years. Applicants under EDA's Planning programs may be invited to submit applications for multi-year awards, setting out the proposed budget and project activities for each year, up to three years. If accepted, such applications will simplify the application process in the subsequent year or years, although in each year approval of an award will be dependent upon continued satisfactory performance during the preceding period, the availability of program funds, and will be at EDA's sole discretion. It is EDA's intention to have the multi-year funding cycle coincide with the peer review cycle called for under Section 506 of PWEDA and 13 CFR § 318.2. At the discretion of the Regional Office, other applicants for planning assistance may be invited to submit applications for up to a three-year period. Funding in FY 2001 and FY 2002 for these other applicants will be contingent upon the availability of funds from Congress, satisfactory performance, and at the sole discretion of EDA.

IX. Program: Economic Adjustment Assistance

(Catalog of Federal Domestic Assistance: 11.307 Economic Development and Adjustment Assistance Program)

Funding Availability

Funds in the amount of $34,629,000 have been appropriated for this program. Of this amount, $12,000,000 is available for economic adjustment projects located in regions impacted by coal industry downsizing and timber industry issues with an additional $3,129,000 available for disaster mitigation uses.

The $3,129,000 for disaster mitigation and recovery will be available to support selected hazard prone communities (areas subject to natural disasters) including Project Impact communities (communities recognized for taking actions on their own to mitigate) designated by the Federal Emergency Management Agency (FEMA), for capacity building and mitigation activities in areas that are EDA eligible. In addition to the eligibility criteria set forth in EDA's regulation's at 13 CFR Chapter III (64 FR 5347, February 3, 1999 and 64 FR 69867, December 14, 1999) these communities must have experienced a natural disaster or be located in natural hazard prone areas.

The average funding level for a regular economic adjustment grant last year was $180,000.

X. Program: Defense Economic Conversion

(Catalog of Federal Domestic Assistance: 11.307 Economic Development and Adjustment Assistance Program; 11.300 Economic Development Grants; 11.303 Economic Development-Technical Assistance; 11.302 Economic Development—Support for Planning Organizations; 11.305 Economic Development—State and Local Economic Development Planning; 11.312 Economic Development—Research and Evaluation Program; and 11.313 Economic Development—Trade Adjustment Assistance)

Funding Availability

Funds in the amount of $77,300,000 have been appropriated for this program. The average funding level for a grant last year was $1,300,000.

Up to $2.5 million of defense adjustment funds will be available for projects that demonstrate innovative credit enhancement of debt financing for base-reuse infrastructure. In 1998, EDA published the results of its funded research project entitled Defense Adjustment Infrastructure Bonds: Credit Enhancement Grants Make Affordable Capital Available. During FY 2000, EDA encourages projects that apply the concepts explained in the study which is available on EDA's website at www.doc.gov/eda. EDA will give priority to projects that: (1) Fund financial studies to determine whether a base-reuse capital improvement financing scheme requires credit enhancement, and if so, to determine the most appropriate form(s) of credit enhancement (note that proposed credit enhancement schemes need not identify EDA as a funding source in order to be competitive); or (2) fund the credit enhancement of a bond for construction activities targeted to new or renovated infrastructure and/or buildings located on former military base property. Factors that will be considered in selecting projects under this demonstration will include: the economic distress of the community affected by the base closure; the projected economic development benefits, e.g., job creation and private sector investment, that will result from the construction of improvements that will be funded by the bond; and the degree to which the resulting activities can serve as a prototype for other areas facing major base conversion needs.

XI. Program: Research and Evaluation

(Catalog of Federal Domestic Assistance: 11.312 Economic Development—Research and Evaluation Program)

Funding Availability

Funds in the amount of $500,000 have been appropriated for this program. The average funding level for a grant last fiscal year was $41,000.

A separate FR Notice will set forth the specific funding priorities, application process, and time frames for certain research and evaluation projects. For further information, contact: John McNamee, National Technical Assistance and Research Division, Economic Development Administration, Room 7019, U.S. Department of Commerce, Washington, DC 20230, Telephone: (202) 482-2309.

XII. Program: Trade Adjustment Assistance

(Catalog of Federal Domestic Assistance: 11.313 Economic Development—Trade Adjustment Assistance)

Funding Availability

Funds in the amount of $10,500,000 have been appropriated for this program. The typical funding level for a grant last year was $791,000. For further information on this program contact: Anthony J. Meyer, Coordinator, Trade Adjustment and Technical Assistance, Planning and Development Assistance Division, Economic Development Administration, Room 7317, U.S. Department of Commerce, Washington, D.C. 20230, Telephone: (202) 482-2127.

EDA Regional Offices and Economic Development Representatives EDA Regional Offices:
Economic Development Representatives | States Covered
William J. Day, Jr., Regional Director, Atlanta Regional Office, 401 West Peachtree Street, N.W., Suite 1820, Atlanta, Georgia 30308-3510, Telephone: (404) 730-3002, Fax: (404) 730-3025, Internet Address: wday1@doc.gov
PATTERSON, Gilbert, 401 West Peachtree Street, N.W., Suite 1820, Atlanta, GA 30308, Telephone: (404) 730-3000, Internet Address: gpatters@doc.gov | Mississippi. Georgia.
HUNTER, Bobby D., 771 Corporate Drive, Suite 200, Lexington, KY 40503-5477, Telephone: (606) 224-7426, Internet Address: bhunter@doc.gov | Kentucky. North Carolina (Western).
DIXON, Patricia M., U.S. Department of Commerce-EDA, P. O. Box 1707, Lugoff, SC 29078, Telephone: (803) 408-2513, Internet Address: pdixon@doc.gov | South Carolina. North Carolina (Eastern).
DENNIS, Bobby, 401 West Peachtree Street, N.W., Suite 1820, Atlanta, GA 30308-3510, Telephone: (404) 730-3020, Internet Address: bdennis@doc.gov | Alabama.
TAYLOR, Willie C., 401 West Peachtree Street, N.W., Suite 1820, Atlanta, GA 30308-3510, Telephone: (404) 730-3032, Internet Address: wtaylor5@doc.gov | Florida.
REED, Tonia, 401 West Peachtree Street, N.W., Suite 1820, Atlanta, Georgia 30308-3510, Telephone: (404) 730-3026, Internet Address: treed@doc.gov | Tennessee.
Pedro R. Garza, Regional Director, Austin Regional Office, 327 Congress Avenue, Suite 200, Austin, Texas 78701-4037, Telephone: (512) 381-8144, Fax: (512) 381-8177, Internet Address: pgarza1@doc.gov
Area Directors
JACOB, Larry, Austin Regional Office 327 Congress Avenue, Suite 200 Austin, TX 78701-4037, Telephone: (512) 381-8157, Internet Address: ljacob@doc.gov | New Mexico Oklahoma Texas (Northwest).
FRERKING, Sharon T., Austin Regional Office 327 Congress Avenue, Suite 200, Austin, Texas 78701-4037, Telephone: (512) 381-8154, Internet Address: sfrerking@doc.gov | Arkansas Louisiana Texas (Southeast).
SPEARMAN, Sam, 700 West Capital, Room 2509, Little Rock, AR 72201, Telephone: (501) 324-5637, Internet Address: sspearma@doc.gov |
DAVIDSON-EHLERS, Pamela 501 Magazine Street, Room 1025, New Orleans, LA 70130, Telephone: (504) 589-4179, Internet Address: pdavidso@doc.gov |
C. Robert Sawyer, Regional Director, Chicago Regional Office, 111 North Canal Street, Suite 855, Chicago, IL 60606, Telephone: (312) 353-7706, Fax: (312) 353-8575, Internet Address: rsawyer@doc.gov
ARNOLD, John B. III, 104 Federal Building, 515 West First Street, Duluth, MN 55802, Telephone: (1-888) 865-5719 (Illinois), (218) 720-5326 (Minnesota), Internet Address: jarnold@doc.gov | Illinois. Minnesota.
HICKEY, Robert F., Federal Building, Room 740, 200 North High Street, Columbus, Ohio 43215, Telephone: (1-800) 686-2603 (Indiana), (614) 469-7314 (Ohio), Internet Address: rhickey@doc.gov | Ohio. Indiana.
PECK, John E., P.O. Box 517, Acme, Michigan 49610-0517, Telephone: (616) 938-1712 (Michigan), (1-888) 249-7597 (Wisconsin), Internet Address: jpeck@doc.gov | Michigan. Wisconsin.
Anthony J. Preite, Regional Director, Denver Regional Office, 1244 Speer Boulevard, Room 670, Denver, Colorado 80204, Telephone: (303) 844-4715, Fax: (303) 844-3968, Internet Address: jwoodwa2@doc.gov
ZENDER, John P., 1244 Speer Boulevard, Room 632, Denver, CO 80204, Telephone: (303) 844-4902, Internet Address: jzender@doc.gov | Colorado. Kansas.
CECIL, Robert, Federal Building, Room 823, 2l0 Walnut Street, Des Moines, IA 50309, Telephone: (515) 284-4746, Internet Address: bcecil@doc.gov | Iowa. Nebraska.
HILDEBRANDT, Paul, Federal Building, Room B-2, 608 East Cherry Street, Columbia, MO 65201, Telephone: (573) 442-8084, Internet Address: phildeb1@doc.gov | Missouri.
ROGERS, John C., Federal Building, Room 196, 301 South Park Ave., Drawer 10074, Helena, MT 59626, Telephone: (406) 441-1175, Internet Address: jrogers6@doc.gov | Montana. Wyoming.
JUNGBERG, Cip, Post Office/Courthouse, 102 4th Ave., Room 216, P.O. Box 190, Aberdeen, South Dakota 57401, Telephone: (605) 226-7315, Internet Address: cjungberg@doc.gov | South Dakota. North Dakota.
TURNER, Robert, Chief, Operations Management, 1244 Speer Boulevard, Room 670, Denver, Colorado 80204, Telephone: (303) 844-4474, Internet Address: rturner@doc.gov | Utah.
Paul M. Raetsch, Regional Director, Philadelphia Regional Office, Curtis Center, Independence Square West, Suite 140 South, Philadelphia, PA 19106, Telephone: (215) 597-4603, Fax: (215) 597-6669, Internet Address: Praetsch@doc.gov
GOOD, William A., Acting, Philadelphia Regional Office, The Curtis Center-Suite 140 South, Independence Square West, Philadelphia, PA 19106, Telephone: (215) 597-0405, Internet Address: wgood@doc.gov | Delaware. District of Columbia.
AUBE, Michael W., 48 Highland Avenue, Bangor, ME 04401-4656, Telephone: (207) 945-6985, Internet Address: Maube@doc.gov | Connecticut. Maine. Rhode Island.
POTTER, Rita V., 143 North Main Street, Suite 209, Concord, NH 03301-5089, Telephone: (603) 225-1624, Internet Address: rpotter@doc.gov | New Hampshire. Massachusetts.
HUMMEL, Edward, Philadelphia Regional Office, The Curtis Center-Suite 140 South, Independence Square West, Philadelphia, PA 19106, Telephone: (215) 597-6767, Internet Address: ehummel@doc.gov | New Jersey. New York City (Long Island).
MARSHALL, Harold J. II, 620 Erie Boulevard West, Suite 104, Syracuse, NY 13204-2442, Telephone: (315) 448-0938, Internet Address: hmarshal@doc.gov | New York. Vermont.
PECONE, Anthony M., 525 North Broad Street, West Hazelton, PA. 18201-1107, Telephone: (570) 459-6861, Internet Address: apecone@doc.gov | Pennsylvania.
CRUZ, Ernesto L., IBM Building, Room 602, 654 Munoz Rivera Avenue, Hato Rey, PR 00918-1738, Telephone: (787) 766-5187, Internet Address: ecruz@doc.gov | Puerto Rico. Virgin Islands.
NOYES, Neal E., Room 474, 400 North 8th Street, P.O. Box 10229, Richmond, VA 23240-1001, Telephone: (804) 771-2061, Internet Address: nnoyes@doc.gov | Virginia. Maryland.
DAVIS, R. Byron, 405 Capital Street, Room 411, Charleston, WV 25301-1727, Telephone: (304) 347-5252, Internet Address: bdavis3@doc.gov | West Virginia.
A. Leonard Smith, Regional Director, Seattle Regional Office, Jackson Federal Building, Room 1856, 915 Second Avenue, Seattle, Washington 98174, Telephone: (206) 220-7660, Fax: (206) 220-7669, Internet Address: Lsmith7@doc.gov
RICHERT, Bernhard E. Jr., 550 West 7th Avenue, Suite 1780, Anchorage, AK 99501-7594, Telephone: (907) 271-2272, Internet Address: brichert@doc.gov | Alaska.
SOSSON, Deena R., 801 I Street, Suite 411, Sacramento, CA 95814, Telephone: (916) 498-5285, Internet Address: dsosson@doc.gov | California (Central).
CHURCH, Dianne V., 280 South First St., #135-B, San Jose, CA 95113, Telephone: (408) 535-5550, Internet Address: dchurch@doc.gov | California (Central Coastal).
FUJITA, Gail S., P.O. Box 50264, 300 Ala Moaana Blvd, Federal Building, Room 5180, Honolulu, HI 96850, Telephone: (808) 541-3391, Internet Address: gfugita@doc.gov | Hawaii. Guam. American Samoa. Marshall Islands. Micronesia. Northern Marianas. Republic of Palau.
AMES, Aldred F., Borah Federal Building, Room 441, 304 North 8th Street, Boise, ID 83702, Telephone: (208) 334-1521 (Idaho), (1-888) 693-1370 (Nevada), Internet Address: aames@doc.gov | Idaho. Nevada.
BERBLINGER, Anne S., One World Trade Center, 121 S.W. Salmon Street, Suite 244, Portland, OR 97204, Telephone: (503) 326-3078, Internet Address: aberblin@doc.gov | Oregon. California (Northern).
MARSHALL, Wilfred, 5777 West Centry Blvd., Suite 1675, Los Angeles, CA 90045, Telephone: (310) 348-5386, Internet Address: wmarshall@doc.gov | California (Southern).
KIRRY, Lloyd P., Seattle Regional Office, Jackson Federal Building, 915 Second Avenue, Room 1856, Seattle, WA 98174, Telephone: (206) 220-7682, Internet Address: lkirry@doc.gov | Washington.
MACIAS, Jacob (Acting), Seattle Regional Office, Jackson Federal Building, 915 Second Avenue, Room 1856, Seattle, WA 98174, Telephone: (206) 220-7666, Internet Address: jmacias@doc.gov | Arizona.

For general information on EDA contact the appropriate Regional Office listed above or EDA's Office of Congressional Liaison and Program Research and Evaluation: Economic Development Administration, Room7814A, U.S. Department of Commerce, Washington, D.C. 20230, Telephone: (202) 482-2309, EDA website www.doc.gov/eda.

Dated: January 18, 2000.
Chester Straub, Jr.,
Acting Assistant Secretary for Economic Development.

[FR Doc. 00-1627 Filed 1-21-00; 8:45 am]

BILLING CODE 3510-24-P